FEDERAL ELECTION COMMISSION

11 CFR Parts 100, 106, 109, 110, and 300

[Notice 2024-17]

Political Party Rules

AGENCY: Federal Election Commission.

ACTION: Notification of disposition of petition for rulemaking.

SUMMARY: The Commission announces its disposition of a Petition for Rulemaking (“Petition”) filed on June 14, 2016, by the Minnesota Democratic-Farmer-Labor Party and its Chair, Ken Martin. The Petition asked the Commission to amend several of its regulations applicable to state, district, or local committees of political parties. On June 26, 2024, the same petitioners submitted a new petition that incorporates the substance of this Petition while “revok[ing]” this Petition. Given the new petition, the Commission is not initiating a rulemaking in response to this Petition.

DATES: August 1, 2024.

ADDRESSES: Copies of the Petition, the Notification of Availability, public comments, and related documents are available on the Commission's website, https://www.fec.gov/fosers/ (reference REG 2016-03, Political Party Rules).

FOR FURTHER INFORMATION CONTACT: Ms. Amy L. Rothstein, Assistant General Counsel, or Mr. Joseph P. Wenzinger, Attorney, Office of General Counsel, (202) 694-1650 or (800) 424-9530.

SUPPLEMENTARY INFORMATION: The Federal Election Campaign Act ¹ (the “Act”) and Commission regulations place various fundraising and spending limitations, prohibitions, and reporting requirements on state, district, and local political party committees. On June 14, 2016, the Minnesota Democratic-Farmer-Labor Party and its Chair, Ken Martin (collectively, “Petitioners”), submitted a Petition for Rulemaking that asked the Commission to amend several regulations applicable to political parties.²

¹ 52 U.S.C. 30101-45.

² REG 2016-03 (Political Party Rules), Petition for Rulemaking to Strengthen Political Parties (June 14, 2016).

First, the Petition asked the Commission to narrow the regulatory definition of “Federal election activity,” ³ which includes certain activities that urge, encourage, or assist people to vote or to register to vote.⁴ The Act and Commission regulations require a state, district, or local committee of a political party to pay for Federal election activity with either entirely Federal funds or, in other instances, a mix of Federal funds and “Levin funds.” ⁵

³ See 11 CFR 100.24.

⁴ Id. § 100.24(a)(2) and (3).

⁵ 52 U.S.C. 30125(b); 11 CFR 300.32.

Second, the Petition asked the Commission to amend the regulation requiring political parties to use a Federal account to pay the salary, wages, and fringe benefits of any employee who spends more than 25 percent of that individual's time on “Federal election activities” or on conduct “in connection with a Federal election.” ⁶ Specifically, the Petition asked the Commission to delete the reference to “Federal election activities,” so that the requirement would cover only employee activities “in connection with a Federal election.”

⁶ See 11 CFR 106.7(c)(l), (d)(l)(i) and (ii) and 300.33(d)(l) and (2).

Finally, the Petition asked the Commission to consider additional regulatory modifications listed in Commission Agenda Document No. 15-54-A, a proposed resolution that recommended amending several rules that would (1) allow political parties to “discuss issue advertisements with candidates,” “republish parts of candidate materials in party materials,” and “distribute volunteer campaign materials without triggering coordination limits,” ⁷ (2) expand political parties' ability to engage in volunteer activities such as volunteer mail drives, phone banks, and literature distribution,⁸ and (3) modify the definition of “Federal election activity” to permit political parties to register voters and urge citizens to vote on behalf of state and local candidates using state funds and to “employ people to engage in state and local get-out-the-vote activities with state funds.” ⁹

⁷ See 11 CFR 109.37.

⁸ See id. §§ 100.87, 100.47.

⁹ See id. § 100.24.

The Commission published a Notification of Availability requesting public comments on the Petition.¹⁰ The Commission received 18 comments in response, including one from Petitioners. Most comments supported the Petition; one comment opposed it.

¹⁰ Political Party Rules, 81 FR 69721 (Oct. 7, 2016).

On June 26, 2024, Petitioners submitted a new petition for rulemaking. The new petition includes a copy of this Petition, incorporates this Petition by reference, and “revokes” this Petition.

The Commission has decided not to initiate a rulemaking in response to this Petition. In deciding whether to initiate a rulemaking in response to a petition, the Commission generally considers five factors: (1) the Commission's statutory authority; (2) policy considerations; (3) the desirability of proceeding on a case-by-case basis; (4) the necessity or desirability of statutory revision; and (5) available agency resources.¹¹

¹¹ 11 CFR 200.5.

Here, the Commission has concluded that its available resources would be more efficiently and effectively utilized by focusing on the new petition for rulemaking submitted by Petitioners on June 26, 2024, which addresses the same issues, and disposing of this Petition.

Copies of the Petition, the Notification of Availability, public comments, and related documents are available on the Commission's website, https://www.fec.gov/fosers/ (reference REG 2016-03, Political Party Rules).

Dated: July 25, 2024.
On behalf of the Commission,
Sean J. Cooksey,
Chairman, Federal Election Commission.

[FR Doc. 2024-16871 Filed 7-31-24; 8:45 am]

BILLING CODE 6715-01-P